FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of agreements are available through the Commission's Web site http://www.fmc.gov or by contacting the Office of Agreements at (202) 523-5793 or tradeanalysis@fmc.gov.

Agreement No.: 011516-007.

Title: Voluntary Intermodal Sealift Discussion Agreement.

Parties: American President Lines, Ltd.; American Roll-On Roll-Off Carrier; Crowley Liner Services, Inc.; Crowley Marine Services, Inc.; Farrell Lines, Inc.; Hapag-Lloyd USA, LLC; Maersk Line, Inc.; Maersk Line, Limited; and Matson Navigation Company.

Filing Party: Gerald A. Malia, Esq.; 1660 L Street, NW.; Suite 506; Washington, DC 20036.

Synopsis: The amendment changes the address of American Presidents Lines, Ltd. and Hapag-Lloyd USA, LLC.

Agreement No.: 012112.

Title: Evergreen/Maersk Slot Charter Agreement.

Parties: Evergreen Line Joint Service Agreement and A.P. Moller-Maersk A/S.

Filing Party: Paul M. Keane, Esq.; Cichanowicz, Callan, Keane, Vengrow & Textor, LLP; 61 Broadway, Suite 3000, New York, NY 10006-2802.

Synopsis: The agreement authorizes Maersk to charter space from Evergreen Line in the trade from ports in Taiwan to ports in California.

Agreement No.: 012113.

Title: CSCL/CSAV Slot Swap Agreement.

Parties: China Shipping Container Lines Co. Ltd., China Shipping Container Lines (Hong Kong) Co. Ltd., and Compania Sud-Americana de Vapores S.A.

Filing Party: Tara L. Leiter, Esq., Blank Rome LLP; 600 New Hampshire Avenue, NW.; Washington, DC 20037.

Synopsis: The agreement authorizes the parties to charter space to each other in the trade between U.S. Atlantic Coast ports and ports in Mexico, Panama, Jamaica, Colombia, and the Far East, including China, Hong Kong, and Korea.

Agreement No.: 012114.

Title: POS/TSL Vessel Sharing Agreement.

Parties: Hainan P O Shipping Co., Ltd., and T.S. Lines Ltd.

Filing Party: Neal A. Mayer, Esq.; Hoppel, Mayer, & Coleman; 1050 Connecticut Avenue, NW., 10th Floor, Washington, DC 20036.

Synopsis: The agreement authorizes the parties to share vessel space in the trade between United States ports and ports in China and Vietnam.

Agreement No.: 201208-001.

Title: Marine Terminal Services Agreement Port of Houston Authority and NYK Line (North America) Inc.

Parties: NYK Line (North America), Inc. and Port of Houston Authority.

Filing Party: Erik A. Eriksson, Esq.; Port of Houston Authority; PO Box 2562; Houston, TX 77252-2562.

Synopsis: The amendment clarifies that NYK (North America) is acting on behalf of Nippon Yusen Kaisha.

By Order of the Federal Maritime Commission.
Dated: December 10, 2010.
Rachel E. Dickon,
Assistant Secretary.

[FR Doc. 2010-31496 Filed 12-14-10; 8:45 am]

BILLING CODE 6730-01-P